ENVIRONMENTAL PROTECTION AGENCY

[FRL-6527-5]

Agency Information Collection Activities: Submission for OMB Review; Comment Request, MACT Subpart KK, National Emission Standards for the Printing and Publishing Industry

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: MACT Subpart KK, National Emission Standards for the Printing and Publishing Industry, OMB Control Number 2060-0335 which expires on March 31, 2000. The ICR describes the nature of the information collection and its expected burden and cost; where appropriate, it includes the actual data collection instrument.

DATES: Comments must be submitted on or before February 24, 2000.

FOR FURTHER INFORMATION CONTACT: For a copy of the ICR contact Sandy Farmer at EPA by phone at (202) 260-2740, by E-Mail at Farmer.Sandy@epamail.epa.gov or download off the Internet at http://www.epa.gov/icr and refer to EPA ICR No.1739.03. For technical questions about the ICR contact Ginger Gotliffe at 202-564-7072.

SUPPLEMENTARY INFORMATION: Title: MACT Subpart KK, National Emission Standards for the Printing and Publishing Industry (OMB Control No. 2060-0335; EPA ICR No.1739.03) expiring 03/31/00. This is a request for extension of a currently approved collection.

Abstract: The Maximum Achievable Control Technology (MACT) for the Printing and Publishing Industry were promulgated on May 30, 1996 (61 FR 27131). These standards apply to the following facilities in 40 CFR part 63, subpart KK: publication rotogravure, product and packaging rotogravure, and wide-web flexographic printing presses at major sources. The effective date is May 30, 1999 for sources existing on May 30, 1996. For new sources or reconstructed sources after May 30, 1996, the effective date is start-up or May 30, 1996, whichever is later.

These standards of performance for this category of major sources and area sources of hazardous air pollutants are required by section 112 of the Clean Air Act. Facilities may meet the standards by materials substitution, by installing control devices, or by a combination of both. The information that is required to be submitted to the Agency or kept at the facility is needed to insure compliance with the regulation. These include initial one time notifications, performance tests plans and reports and records of maintenance and shutdown, startup, and malfunctions. The required notifications are used to inform the Agency or delegated authority when a source becomes subject to the standard. The reviewing authority may then inspect the source to check if the pollution control devices are properly installed and operated, leaks are being detected and repaired and the standard is being met. Performance test reports are needed as these are the Agency's record of a source's initial capability to comply with the emission standard, and serve as a record of the operating conditions under which compliance was achieved. For facilities that install CMS there are performance test, and maintenance reports. Excess emissions reports are submitted semiannually. Responses to the collection of information are mandatory.

An agency may not conduct or sponsor, and a person is not required to respond to, a collection of information unless it displays a currently valid OMB control number.The OMB control numbers for EPA's regulations are listed in 40 CFR part 9 and 48 CFR Chapter 15. The Federal Register document required under 5 CFR 1320.8(d), soliciting comments on this collection of information was published on 7/29/99 (64 FR 41110); no comments/comments were received.

Burden Statement: The annual public reporting and recordkeeping burden for this collection of information is estimated to average 192 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of publication rotogravure, product and packaging rotogravure, or wide-web flexographic printing presses.

Estimated Number of Respondents: 135.

Frequency of Response: one time notifications, semiannual reports.

Estimated Total Annual Hour Burden: 52,495

Estimated Total Annualized Capital, O&M Cost Burden: $403,000

Send comments on the Agency's need for this information, the accuracy of the provided burden estimates, and any suggested methods for minimizing respondent burden, including through the use of automated collection techniques to the following addresses. Please refer to EPA ICR No. 1739.03 and OMB Control No. 2060-0335 in any correspondence.

Ms. Sandy Farmer, U.S. Environmental Protection Agency, Office of Environmental Information, Collection Strategies Division (2822), 1200 Pennsylvania Ave., NW, Washington, DC 20460; and

Office of Information and Regulatory Affairs, Office of Management and Budget, Attention: Desk Officer for EPA, 725 17th Street, NW, Washington, DC 20503.

Dated: January 11, 2000.
Oscar Morales,
Director, Collection Strategies Division.

[FR Doc. 00-1664 Filed 1-24-00; 8:45 am]

BILLING CODE 6560-50-U